DEPARTMENT OF TRANSPORTATION

Federal Aviation Administration

[Summary Notice No. PE-2001-97]

Petitions for Exemption; Summary of Dispositions of Petitions Issued

AGENCY: Federal Aviation Administration (FAA), DOT.

ACTION: Notice of Dispositions of prior petitions.

SUMMARY: Pursuant to FAA's rulemaking provisions governing the application, processing, and disposition of petitions for exemption part 11 of Title 14, Code of Federal Regulations (14 CFR), this notice contains a summary of dispositions of certain pertitions previously received. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, Sandy Buchanan-Sumter (202) 267-7271, or Vanessa Wilkins (202) 267-8029, Office of Rulemaking (ARM-1), Federal Aviation Administration, 800 Independence Avenue, SW, Washington, DC 20591.

This notice is published pursuant to 14 CFR 11.85 and 11.91.

Dated: Issued in Washington, DC, on January 11, 2002.
Donald P. Byrne,
Assistant Chief Counsel for Regulations.

Dispositions of Petitions

Docket No.: FAA-2001-10004.

Petitioner: America West Airlines, Inc.

Section of 14 CFR Affected: 14 CFR 93.123.

Description of Relief Sought/Disposition: To permit America West to operate three flights at Ronald Reagan Washington National Airport, Grant, 12/10/2001, Exemption No. 5133J.

Docket No.: FAA-2001-11054.

Petitioner: SC Aviation, Inc.

Section of 14 CFR Affected: 14 CFR 135.143(c)(2).

Description of Relief Sought/Disposition: To permit SCA to operate certain aircraft under part 135 without TSO-C112 (Mode S) transponder installed in the aircraft. Grant, 12/05/2001, Exemption No. 7673.

Docket No.: FAA-2001-11059.

Petitioner: Mulchatna Air Service.

Section of 14 CFR Affected: 14 CFR 135.143(c)(2).

Description of Relief Sought/Disposition: To permit MAS to operate certain aircraft under part 135 without a TSO-C112 (Mode S) transponder installed in the aircraft. Grant, 12/05/2001, Exemption No. 7674.

Docket No.: FAA-2000-8091.

Petitioner: Mr. Larry G. Munro.

Section of 14 CFR Affected: 14 CFR 61.3(j)(1).

Description of Relief Sought/Disposition: To permit Mr. Munro to act as a pilot in certain international operations after reaching his 60th birthday. Denial, 11/27/2001, Exemption No. 7669.

[FR Doc. 02-1162 Filed 1-15-02; 8:45 am]

BILLING CODE 4910-13-M